DEPARTMENT OF COMMERCE

Foreign-Trade Zones Board

[B-15-2015]

Foreign-Trade Zone 44—Mount Olive, New Jersey; Authorization of Production Activity; Givaudan Fragrances Corporation (Fragrance Compounds), Mount Olive, New Jersey

On March 4, 2015, Givaudan Fragrances Corporation submitted a notification of proposed production activity to the Foreign-Trade Zones (FTZ) Board for its facility within FTZ 44—Site 1 in Mount Olive, New Jersey.

The notification was processed in accordance with the regulations of the FTZ Board (15 CFR part 400), including notice in the Federal Register inviting public comment (80 FR 14094-14095, 3-18-2015). The FTZ Board has determined that no further review of the activity is warranted at this time. The production activity described in the notification is authorized, subject to the FTZ Act and the Board's regulations, including § 400.14.

Dated: July 1, 2015.
Elizabeth Whiteman,
Acting Executive Secretary.

[FR Doc. 2015-16822 Filed 7-8-15; 8:45 am]

BILLING CODE 3510-DS-P